DEPARTMENT OF COMMERCE

National Oceanic and Atmospheric Administration

[I.D. 020105C]

Endangered and Threatened Species: Notice of New Information Available Concerning Oregon Coast Coho Salmon Currently Proposed for Threatened Status

AGENCY: National Marine Fisheries Service (NMFS), National Oceanic and Atmospheric Administration (NOAA), Commerce.

ACTION: Notice of Availability of new information.

SUMMARY: In June 2004, NMFS proposed that Oregon Coast coho salmon be listed as a threatened species under the Endangered Species Act (ESA). The State of Oregon (hereafter, “the State”) has recently made publically available a draft assessment of the viability of Oregon Coast coho salmon, as well as of the contributions of the Oregon Plan for Salmon and Watersheds (OPSW) to conserving Oregon Coast coho salmon. To ensure that the final listing determination for Oregon Coast coho salmon is based upon the best available scientific and commercial information, NMFS will be considering the information presented in the State's draft assessment (hereafter the “draft Coho Project Report”) in determining the final listing status for the species. Accordingly, notice is hereby given of the availability of the State's draft Coho Project Report for public review and comment. NMFS is furnishing this notification to allow other agencies and the public an opportunity to review and comment on the State's analyses and findings. Specifically, NMFS is soliciting public comment on the State's assessment as it relates to the ESA listing status of Oregon Coast coho salmon, as well as other information concerning NMFS' final listing decision on Oregon Coast coho. All comments received will become part of the public record and will be available for review.

DATES: All comments must be received no later than 5 p.m. Pacific Standard Time on March 11, 2005.

ADDRESSES: Copies of the State's draft Coho Project Report are available on the Internet at: ftp://nrimp.dfw.state.or.us/OregonPlan/, or upon request (see FOR FURTHER INFORMATION CONTACT below). You may submit comments on the draft Coho Project Report by any of the following methods:

E-mail: The mailbox address for submitting e-mail comments on the draft OPSW Assessment Report is OR_Coho_Report.nwr@noaa.gov. Please include in the subject line of the e-mail comment the document identifier “Oregon's Draft Coho Project Report.”

Mail: Prior to February 18, 2005, you may submit written comments and information to Chief, NMFS, Protected Resources Division, 525 NE Oregon Street, Suite 500, Portland, Oregon, 97232-2737. Following February 18, 2005, you may submit written comments and information to Chief, NMFS, Protected Resources Division, 1201 NE Lloyd Boulevard, Suite 1100, Portland, Oregon, 97232. Please identify the comment as regarding the “Oregon's Draft Coho Project Report.”

Hand Delivery/Courier: Prior to February 18, 2005, you may hand deliver written comments and information to NMFS, Protected Resources Division, 525 NE Oregon Street, Suite 500, Portland, Oregon, 97232-2737. Following February 18, 2005, you may hand deliver written comments and information to NMFS, Protected Resources Division, 1201 NE Lloyd Boulevard, Suite 1100, Portland, Oregon, 97232. Business hours are 8 a.m. to 5 p.m., Monday through Friday, except Federal holidays. Please identify the comment as regarding the “Oregon's Draft Coho Project Report.”

Fax: 503-230-5441. Please identify the fax comment as regarding the “Oregon's Draft Coho Project Report.”

FOR FURTHER INFORMATION CONTACT: Scott Rumsey, NMFS, Northwest Region, Protected Resources Division by phone at (503) 872-2791. Copies of the Federal Register notices cited herein and additional salmon-related materials are available on the Internet at http://www.nwr.noaa.gov.

SUPPLEMENTARY INFORMATION:

Background

Section 4(b)(1)(A) of the ESA requires NMFS to make listing determinations based solely on the best scientific and commercial data available after conducting a review of the status of the species and after taking into account efforts being made to protect the species. In judging the efficacy of existing protective efforts, NMFS relies on the joint NMFS-U.S. Fish and Wildlife Service “Policy for Evaluation of Conservation Efforts When Making Listing Decisions” (“PECE;” 68 FR 15100; March 28, 2003). PECE provides direction for the consideration of protective efforts identified in conservation agreements, conservation plans, management plans, or similar documents that have not yet been implemented, or have been implemented but have not yet demonstrated effectiveness. The policy articulates several criteria for evaluating the certainty of implementation and effectiveness of protective efforts to aid in determination of whether a species should be listed as threatened or endangered. NMFS lists as endangered “any species which is in danger of extinction throughout all or a significant portion of its range,” and lists as threatened any species “which is likely to become an endangered species within the foreseeable future throughout all or a significant portion of its range.”

On June 14, 2004, NMFS published proposed ESA listing determinations for 27 Evolutionarily Significant Units ( ESUs) of salmon and O. mykiss (69 FR 33101), including a proposal to list the Oregon Coast ESU as “threatened” under the ESA. In concluding that the ESU is “likely to become endangered within the foreseeable future,” NMFS evaluated the status of the species, noting that recent strong returns (in 2000-2002) are extremely encouraging, but that these strong returns follow 3 years of successive recruitment failure (in 1997-1999). The recent increases in Oregon Coast coho returns are largely attributed to highly productive ocean conditions favoring high rates of coho marine survival. NMFS concluded that the recent increases need to be sustained through additional brood years to resolve remaining uncertainties regarding ESU viability, particularly during unfavorable ocean conditions. NMFS noted that additional information demonstrating that the freshwater habitat can support high abundances of natural spawners and sustain recent abundance levels would also help resolve these uncertainties.

As part of its June 2004 listing proposals, NMFS evaluated, pursuant to the ESA and consistent with PECE, available information regarding efforts being made to protect the species. In its proposed listing determination for the Oregon Coast coho ESU, NMFS determined that, given the best information available at the time of the proposal, OPSW and other protective efforts do not provide sufficient certainty of implementation and effectiveness to alter the conclusion that the ESU is “likely to become an endangered species within the foreseeable future throughout all or a significant portion of its range.” However, NMFS noted that the State was initiating a comprehensive analysis of the adequacy of actions under OPSW, specifically in the context of contributing to the conservation and recovery of the Oregon Coast coho ESU. At the time of the proposal the State's OPSW assessment had just recently been initiated, and no new information was available to further inform NMFS' proposed listing determination for the Oregon Coast coho ESU. However, NMFS noted that “if information is made available to NMFS suggesting that the Oregon Plan [OPSW] and/or other conservation efforts substantially mitigate ESU extinction risk, NMFS may take such opportunity to re-initiate a status review for the Oregon Coast coho ESU to consider the best and most recent scientific and commercial information available.”

Following an initial public comment period of 90 days, the public comment period was extended twice for an additional 36 and 22 days, respectively (69 FR 53031; August 31, 2004; 69 FR 61348; October 18, 2004).

The State has recently made a draft report publicly available (available on the Internet at: ftp://nrimp.dfw.state.or.us/OregonPlan/) assessing the viability of Oregon Coast coho and the contributions of OPSW to the conservation of the ESU. NMFS will consider the information presented in the draft and final Coho Project Report in developing a final listing determination for the Oregon Coast coho ESU. To that end, NMFS is soliciting public comment on the State's draft Coho Project Report.

Information Solicited

NMFS is soliciting public comment on whether the State's draft Coho Project Report provides new information and analyses concerning the viability of Oregon Coast coho to alter the NMFS' extinction risk assessment and proposed determination that the ESU is likely to become an endangered species within the foreseeable future throughout all or a significant portion of its range (i.e., “threatened”). Additionally, NMFS is soliciting comment on whether the draft Coho Project Report presents information and analyses demonstrating, consistent with PECE, that the OPSW provides sufficient certainty of implementation and effectiveness to alter NMFS' proposed determination that efforts being made to protect the Oregon Coast coho ESU do not substantially mitigate the assessed level of extinction risk. NMFS will also consider, in making a final listing decision for the Oregon Coast coho ESU, any information provided pursuant to this notice concerning the viability of Oregon Coast coho and any efforts being made to protect that ESU.

Authority: 16 U.S.C. 1531 et seq.

Dated: February 3, 2005.
Laurie K. Allen,
Director, Office of Protected Resources, National Marine Fisheries Service.

[FR Doc. 05-2530 Filed 2-8-05; 8:45 am]

BILLING CODE 3510-22-S